FEDERAL COMMUNICATIONS COMMISSION

47 CFR Parts 1, 2, 6, 7, 9, 13, 20, 22, 24, 27, 68, 73, 74, 78, 80, 87, 90, 95, 97, and 101

[WT Docket No. 06-150, CC Docket No. 94-102, WT Docket No. 01-309, WT Docket No. 06-169, WT Docket No. 96-86; DA 06-1880]

Service Rules for the 698-746, 747-762 and 777-792 MHz Bands; Revision of the Commission's Rules To Ensure Compatibility With Enhanced 911 Emergency Calling Systems; Hearing Aid-Compatible Telephones; Former Nextel Communications, Inc. Upper 700 MHz Guard Band Licenses and Revisions to Part 27 of the Commission's Rules; the Development of Operational, Technical and Spectrum Requirements for Meeting Federal, State and Local Public Safety Communications Requirements Through the Year 2010

AGENCY: Federal Communications Commission.

ACTION: Proposed rule; extension of comment period.

SUMMARY: On August 10, 2006, the Federal Communications Commission released a document in WT Docket No. 06-150, CC Docket No. 94-102, and WT Docket No. 01-309, respectively, seeking comment on the possibility of revising a variety of licensing and service rules affecting both auctioned and unauctioned spectrum in the 698-746, 747-762, and 777-792 MHz bands. In this action, the Federal Communications Commission denies in part requests to extend the deadline for filing comments and reply comments in this rulemaking proceeding. Nevertheless, the Federal Communications Commission finds that a limited extension of time is warranted and grants the requests in part by adopting a nine-day extension of time for filing comments in WT Docket No. 06-150, CC Docket No. 94-102, and WT Docket No. 01-309.

DATES: Comments are due in WT Docket No. 06-150, CC Docket No. 94-102, and WT Docket No. 01-309 (71 FR 48506, August 21, 2006) on or before September 29, 2006. Reply comments are due in WT Docket No. 06-150, CC Docket No. 94-102, and WT Docket No. 01-309 on or before October 20, 2006.

ADDRESSES: Federal Communications Commission, 445 12th Street, SW., Washington, DC 20554. See SUPPLEMENTARY INFORMATION for filing instructions.

FOR FURTHER INFORMATION CONTACT: Michael Rowan, Special Counsel, Spectrum & Competition Policy Division, Wireless Telecommunications Bureau, Federal Communications Commission, 445 12th Street, SW., Portals I, Room 6315, Washington, DC 20554; and Bill Stafford, Special Counsel, Spectrum & Competition Policy Division, Wireless Telecommunications Bureau, Federal Communications Commission, 445 12th Street, SW., Portals I, Room 6221, Washington, DC 20554.

SUPPLEMENTARY INFORMATION: This is a summary of the Commission's Order in WT Docket No. 06-150, CC Docket No. 94-102, WT Docket No. 01-309, WT Docket No. 06-169, and WT Docket No. 96-86 released September 15, 2006. The complete text of the Order is available for public inspection and copying from 8 a.m. to 4:30 p.m. Monday through Thursday or from 8 a.m. to 11:30 a.m. on Friday at the FCC Reference Information Center, Portals II, 445 12th Street, SW., Room CY-A257, Washington, DC 20554. The Order may also be purchased from the Commission's duplicating contractor, Best Copy and Printing, Inc. (BCPI), Portals II, 445 12th Street, SW., Room CY-B402, Washington, DC 20554, telephone 202-488-5300, facsimile 202-488-5563, or you may contact BCPI at its Web site: http://www.BCPIWEB.com. When ordering documents from BCPI please provide the appropriate FCC document number, DA 06-1880. The Order is also available on the Internet at the Commission's Web site through its Electronic Document Management System (EDOCS): http://hraunfoss.fcc.gov/edocs_public/SilverStream/Pages/edocs.html.

I. Discussion

1. In this Order, we extend the deadline for filing comments in response to the Notice of Proposed Rule Making, Fourth Further Notice of Proposed Rule Making, and Second Further Notice of Proposed Rule Making (NPRM) until September 29, 2006, but retain the reply comment deadline of October 20, 2006. (See 71 FR 48506, August 21, 2006). The NPRM seeks public comment on a variety of licensing and service rules affecting both auctioned and unauctioned spectrum in the 698-746, 747-762, and 777-792 MHz bands (700 MHz Band). Interested parties previously had until September 20, 2006, for filing comments and October 20, 2006, for filing reply comments.

2. The Federal Communications Commission (Commission) has received requests for an extension of time to submit comments and reply comments in response to the NPRM. On September 8, 2006, CTIA—The Wireless Association (CTIA) filed a request seeking an extension of time until 14 and 28 days, respectively after the down payment deadline following the close of Auction 66. In its request, CTIA argues that the timing of the NPRM and Auction 66 may warrant a limited extension of time. On September 8, 2006, Access Spectrum, L.L.C. and Pegasus Communications Corporation (Access/Pegasus) filed a motion requesting that the Commission extend the comment period for the NPRM to a date no later than October 30, 2006, and the reply comment period to a date no later than November 30, 2006. As a part of its motion, Access/Pegasus requests that the Commission have the comment period for the NPRM coincide with the comment date for the Commission's proceeding concerning the Blocks A and B in the Upper 700 MHz Band. On September 11, 2006, Access/Pegasus filed a Supplemental Motion for Extension of Time, which modified its previous motion. In its supplemental motion, Access/Pegasus requests specific dates of October 16, 2006 and November 15, 2006 to file comments and reply comments, respectively, to the NPRM and in the Commission's proceeding in WT Docket No. 06-169 respecting Blocks A and B in the Upper 700 MHz Band, and also asks that interested parties be provided an opportunity to file supplemental comments by November 15, 2006 in the Public Safety 700 MHz proceeding in WT Docket No. 96-86. Aloha Partners, LP (Aloha), MetroPCS Communications, Inc. (MetroPCS), and the Rural Cellular Association (RCA) filed comments in support of the CTIA Request. Verizon Wireless has filed an opposition to the requests by CTIA and Access/Pegasus for an extension of the comment deadlines. Verizon Wireless argues that public safety needs and the auction deadline for the 700 MHz spectrum necessitates adhering to the existing comment schedule.

3. It is the general policy of the Commission that extensions of time shall not be routinely granted. 47 CFR 1.46(a). Nevertheless, in this instance a limited extension of time is warranted for filing comments in response to the NPRM. We find that a nine-day extension of time for comments will facilitate the development of a complete record on the various issues on which the Commission sought comment, including any need for additional small geographic service area licenses in the 700 MHz Band. We are mindful of our statutory obligations and find that providing this limited additional time will not unduly delay this proceeding and future auction of the 700 MHz Band. Accordingly, we extend the deadline for filing comments in response to the NPRM until September 29, 2006, but retain the reply comment deadline of October 20, 2006. We also deny the request of Access/Pegasus to establish: (1) October 16, 2006 and November 15, 2006 as comment and reply comment dates in WT Docket No. 06-169, and (2) November 15, 2006 as a date for filing supplemental comments in WT Docket No. 96-86.

4. Instructions for filing pleadings are set forth in the NPRM, available on the Commission's Web site at http:// www.fcc.gov. All comments and reply comments will be available for public inspection during regular business hours in the FCC Reference Information Center, Room CY-A257, 445 Twelfth Street SW., Washington, DC 20554.

II. Ordering Clauses

5. Accordingly, It is ordered that, pursuant to Sections 4(i) and 4(j) of the Communications Act of 1934, as amended, 47 U.S.C. 154(i) and 154(j), and Sections 0.131, 0.331, and 1.46 of the Commission's rules, 47 CFR 0.131, 0.331, and 1.46, the deadline for filing comments in response to the NPRM is extended to September 29, 2006.

6. It is further ordered that, pursuant to Sections 4(i) and 4(j) of the Communications Act of 1934, as amended, 47 U.S.C. 154(i) and 154(j), and Sections 0.131, 0.331, and 1.46 of the Commission's rules, 47 CFR 0.131, 0.331, and 1.46, the Request for Extension of Comment Deadline of CTIA—The Wireless Association filed on September 8, 2006, and the Motion for Extension of Time and Supplemental Motion for Extension of Time filed by Access Spectrum, L.L.C. and Pegasus Communications Corporation on September 8 and 11, 2006, respectively, are Granted in part and Denied in part, as specified above.

Federal Communications Commission.
Catherine W. Seidel,
Acting Chief, Wireless Telecommunications Bureau.

[FR Doc. E6-16058 Filed 9-28-06; 8:45 am]

BILLING CODE 6712-01-P